DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 76, No. 64, pp. 18555-18556, dated April 4, 2011) is amended to reflect updates to the functions of the Center for Strategic Planning.

Part F. is described below:

• Section FC. 20 (Functions) reads as follows:

Center for Strategic Planning (FCK)

• Directs and oversees the strategic planning process to achieve CMS strategic aims and goals, through a collaborative process with internal and external partners.

• Obtains understanding and concurrence of CMS senior management, the Principal Deputy Administrator, and the CMS Administrator on long term strategic plans and goals, and timelines and actions steps to be taken to achieve strategic aims and goals.

• Performs environmental scans and gap analysis on CMS strategic imperatives and enterprise goals.

• Integrates and aligns CMS strategic plans with Department of Health and Human Services' 5-year strategic plan and performance goals.

• Provides senior leadership over the strategic planning process and the development of CMS strategic goals, metrics, and plans.

• Confers with CMS' Centers, Offices and Regions to facilitate the development and update of strategic plans and performance goals.

• Oversees the CMS Challenge Competition, working with components to plan, organize, implement and report on CMS Challenge Competitions.

• Manages and coordinates internal and external inquiries regarding CSP activities.

Dated: June 14, 2012.
Marilyn Tavenner,
Acting Administrator and Chief Operating Officer, Centers for Medicare & Medicaid Services.

[FR Doc. 2012-15306 Filed 6-21-12; 8:45 am]

BILLING CODE 4120-01-P